COUNCIL ON ENVIRONMENTAL QUALITY

Economic and Environmental Principles and Guidelines for Water and Related Land Resources Implementation Studies; Initiation of Revision and Request for Suggested Changes

AGENCY: Council on Environmental Quality.

ACTION: Notice and Request for Suggestions.

SUMMARY: Section 2031 of the Water Resources Development Act of 2007 (Pub. L. 110-114) directs the Secretary of the Army to revise the “Economic and Environmental Principles and Guidelines for Water and Related Land Resources Implementation Studies,” dated March 10, 1983, consistent with a number of considerations enumerated in the statute. The Administration is considering developing uniform planning standards for the development of water resources that would apply government-wide, including agencies other than the traditional water resources development agencies covered under the current Principles and Guidelines: the Army Corps of Engineers, Bureau of Reclamation (Interior), Natural Resources Conservation Service (USDA), and Tennessee Valley Authority. Therefore, the Council on Environmental Quality (CEQ) will facilitate an interagency drafting of revised Principles and Guidelines for planning water resources projects that could be applied government-wide.

Upon completion, the revision would apply to Federal water resources implementation studies including project reevaluations and modifications except those commenced prior to the issuance of the revised guidance. It is intended that the revision will be conducted in two phases, with the first phase addressing revisions to the 1983 Principles and Standards (Chapter I of the existing Guidelines) and the second phase addressing revisions to the Procedures (Chapters II through IV of the 1983 Guidelines). The purpose of this notice is to provide an opportunity for interested individuals and organizations to submit suggestions for revising the Principles and Guidelines. Using that input, CEQ intends for the initial draft of the revision to be prepared and released for public comments and review by the National Academy of Sciences.

DATES: CEQ will hold a Webinar to hear public comment on recommendations to revise the Principles and Guidelines on July 13, 2009, from 1 to 3:30 p.m. EDT. Written suggestions are being accepted now and will be accepted through the end of the business day, July 17, 2009.

ADDRESSES: Suggestions should be submitted in writing to the Council on Environmental Quality, Attn: Terry Breyman, 722 Jackson Place, NW., Washington, DC 20503 or via e-mail to P&G@ceq.eop.gov or FAX 202-456-6546.

FOR FURTHER INFORMATION CONTACT: Terry Breyman, Associate Director for Natural Resources, at 202-456-9721.

SUPPLEMENTARY INFORMATION: The Council on Environmental Quality is initiating the first phase of this revision to include the 1983 Principles and Standards (Chapter I of the Guidelines). Revision of Chapters II through IV of the Guidelines will be initiated at a later date. The Secretary requests that each suggested revision be accompanied by a statement of the intent of the revision. Written suggestions (by mail, e-mail, or fax) are preferred and should be submitted to Terry Breyman, 722 Jackson Place, NW., Washington, DC 20503 or via e-mail to P&G@ceq.eop.gov or FAX 202-456-6546. In addition, CEQ will hold a Webinar to hear suggestions for proposed revisions on July 13, 2009, from 1 to 3:30 p.m. EDT. To participate in the Webinar, you must register at https://www2.gotomeeting.com/register/411954714. After registering, you will receive a confirmation e-mail containing information about joining the Webinar. System requirements for PC-based attendees: Windows2000, XP Home, XP Pro, 2003 Server, Vista. Mcintosh-based attendees require Mac OS X 10.4 (Tiger) or newer. Those needing to make suggestions and ask questions may attend this meeting in person at the U.S. EPA offices at Two Potomac Yard (North Building), Room n-1600 (6th floor), 2733 South Crystal Drive, Arlington, VA 22202. To facilitate oral suggestions, the time available to speak will be divided by random drawing. Interested individuals and organizations may request copies of the following documents by mail or e-mail or access them at the Internet addresses indicated: “Economic and Environmental Principles and Guidelines for Water and Related Land Resources Implementation Studies dated March 10, 1983 (http://www.usace.army.mil/CECW/PlanningCOP/Documents/library/Principles_Guidelines.pdf) Water Resources Development Act of 2007 (Pub. L. 110-114) at http://www.usace.army.mil/CECW/PlanningCOP/Documents/library/hr1495_pl110-114.pdf.

Dated: June 26, 2009.
Nancy H. Sutley,
Chairman, Council on Environmental Quality.

[FR Doc. E9-15517 Filed 6-30-09; 8:45 am]

BILLING CODE 3125-W9-P